DEPARTMENT OF ENERGY

Federal Energy Regulatory Commission

[Project No. 15249-001]

Lewis Ridge Pumped Storage, LLC; Notice of Intent To File License Application, Filing of Pre-Application Document, and Approving Use of the Traditional Licensing Process

a. Type of Filing: Notice of Intent to File License Application and Request to Use the Traditional Licensing Process.

b. Project No.: 15249-001.

c. Dated Filed: October 21, 2022.

d. Submitted By: Lewis Ridge Pumped Storage, LLC.

e. Name of Project: Lewis Ridge Pumped Storage Project.

f. Location: On Tom Fork near the communities of Blackmont, Tejay, Balkan, and Callaway, in Bell County, Kentucky. The project would not occupy any federal lands.

g. Filed Pursuant to: 18 CFR 5.5 of the Commission's regulations.

h. Applicant Contact: Sandy Slayton, Vice President, Lewis Ridge Pumped Storage, LLC, 830 NE Holladay Street, Portland, Oregon 97232; Phone: (206) 919-3976, Email: sandy@ryedevelopment.com.

i. FERC Contact: Michael Spencer at (202) 502-6093 or michael.spencer@ferc.gov.

j. Lewis Ridge Pumped Storage, LLC. (Lewıs Rıdge) filed its request to use the Traditional Licensing Process on October 21, 2022. Lewıs Rıdge provided public notice of its request on October 19, 2022. In a letter dated December 21, 2022, the Director of the Division of Hydropower Licensing approved Lewıs Rıdge's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Kentucky State Historic Preservation Officer, as required by section 106, National Historic Preservation Act, and the implementing regulations of the Advisory Council on Historic Preservation at 36 CFR 800.2.

l. With this notice, we are designating Lewis Ridge as the Commission's non-federal representative for carrying out informal consultation, pursuant to section 7 of the Endangered Species Act and section 305(b) of the Magnuson-Stevens Fishery Conservation and Management Act; and consultation pursuant to section 106 of the National Historic Preservation Act.

m. Lewis Ridge filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY).

o. Register online at https://ferconline.ferc.gov/eSubscription.aspx to be notified via email of new filing and issuances related to this or other pending projects. For assistance, contact FERC Online Support.

Dated: December 21, 2022.
Kimberly D. Bose,
Secretary.

[FR Doc. 2022-28249 Filed 12-27-22; 8:45 am]

BILLING CODE 6717-01-P